DEPARTMENT OF JUSTICE

Notice of Lodging of Consent Decree Pursuant to the Comprehensive Environmental Response, Compensation, and Liability Act

In accordance with Departmental policy, 28 CFR § 50.7, notice is hereby given that proposed consent decrees in United States v. Foss Maritime Co., et al., Civil Action No. C03-5331RJB were lodged on June 12, 2003, with the United States District Court for the Western District of Washington. The consent decrees require defendants Marine Industries Northwest, Inc., Foss Maritime Company, Pioneer Industries, Inc., State of Washington Department of Natural Resources, the City of Tacoma, The City of Tacoma Department of Public Utilities, Simpson Tacoma Land Company, Simpson Tacoma Kraft Company, LLC, Cook's Marine Specialities, Stuart Cook and Western Machine Works to perform the cleanup of the Middle Waterway Problem Area within the Commencement Bay/Nearshore Tideflats Superfund Site.

The Department of Justice will receive, for a period of thirty (30) days from the date of this publication, comments relating to the proposed consent decrees. Comments should be addressed to the Assistant Attorney General for the Environment and Natural Resources Division, Department of Justice, P.O. Box 7611 Washington, DC 20044-7611, and should refer to United States v. Foss Maritime Co., et al., DOJ Ref. # 90-11-2-729/1.

The proposed consent decrees may be examined at the office of the United States Attorney, 601 Union Street, Seattle, WA 98101, and at U.S. EPA Region 10, 1200 Sixth Avenue, Seattle, WA 98101. During the public comment period, the proposed consent decrees may also be examined on the following Department of Justice website, http://www.usdoj.gov/enrd/open.html. Copies of the proposed consent decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting copies please refer to the referenced case and enclose a check in the amount of $64.25 (25 cents per page reproduction costs), payable to the U.S. Treasury.

Robert Maher,
Assistant Chief, Environmental Enforcement Section, Environment and Natural Resources Division.

[FR Doc. 03-15439 Filed 6-18-03; 8:45 am]

BILLING CODE 4410-15-M